DEPARTMENT OF COMMERCE

National Oceanic and Atmospheric Administration

RIN 0648-XC170

New England Fishery Management Council; Public Meeting

AGENCY: National Marine Fisheries Service (NMFS), National Oceanic and Atmospheric Administration (NOAA), Commerce.

ACTION: Notice; public meeting.

SUMMARY: The New England Fishery Management Council's (Council) VMS/Enforcement Committee and Advisory Panel will meet to consider actions affecting New England fisheries in the exclusive economic zone (EEZ).

DATES: The meeting will be held on Thursday, September 6, 2012 at 9:30 a.m.

ADDRESSES: The meeting will be held at the Radisson Hotel Plymouth Harbor, 180 Water Street, Plymouth, MA 02360; telephone: (508) 747-4900; fax: (508) 746-2609.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The VMS/Enforcement Committee and Advisory Panel will meet to discuss and make recommendations for NOAA enforcement priorities for 2013. They will provide an open comment period/webinar for the fishing industry, concerning Compliance and Effectiveness of Regulations for New England Fishery Management Plans (FMPs). Also on the agenda will be to make recommendations for changes to gear stowage rules across all New England FMPs, and contact the Mid-Atlantic Fishery Management Council with these recommendations concerning their FMPs. The Committee and Advisory Panel will make recommendations on the Proposed Information Collection, Northeast Region Logbook Family of Forms Federal Register (77 FR 153, 8/8/12). Other business may be discussed. The public is invited to participate in the meeting via webinar. For online access to the meeting, please reserve your webinar seat now at https://www4.gotomeeting.com/register/824208695.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 16, 2012.
Tracey L. Thompson,
Acting Deputy Director, Office of Sustainable Fisheries, National Marine Fisheries Service.

[FR Doc. 2012-20515 Filed 8-20-12; 8:45 am]

BILLING CODE 3510-22-P